ENVIRONMENTAL PROTECTION AGENCY

40 CFR Part 52

[CA 031-0237; FRL-6704-1]

Revision to the California State Implementation Plan, South Coast Air Quality Management District

AGENCY: Environmental Protection Agency (EPA).

ACTION: Direct final rule; correction.

SUMMARY: In this direct final action, EPA is removing final limited approval and limited disapproval of revisions to the California State Implementation Plan (SIP) that were published on January 13, 2000 (65 FR 2052).

DATES: This rule is effective July 24, 2000, without further notice unless EPA receive adverse comments by June 22, 2000. If we receive such comment, we will publish a timely withdrawal in the Federal Register to notify the public that this rule will not take effect.

ADDRESSES: Comments may be mailed to: Andrew Steckel, Rulemaking Office, AIR-4, Air Division, U.S. Environmental Protection Agency, Region IX, 75 Hawthorne Street, San Francisco, CA 94105-3901.

Copies of the rules are available for public inspection at EPA's Region IX office during normal business hours. Copies of the submitted rules are also available for inspection at the following locations:

Environmental Protection Agency, Air Docket (6102), 401 “M” Street SW, Washington, DC 20460.

California Air Resources Board, Stationary Source Division, Rule Evaluation Section, 2020 “L” Street, Sacramento, CA 95812.

South Coast AQMD, 21865 E. Copley Dr., Diamond Bar, CA 91765-4182.

FOR FURTHER INFORMATION CONTACT: Ed Addison, Rulemaking Office, Air Division, U.S. Environmental Protection Agency, Region IX, 75 Hawthorne Street, San Francisco, CA 94105; Telephone: (415) 744-1160.

SUPPLEMENTARY INFORMATION: On August 5, 1988, South Coast Air Quality Management District (SCAQMD) adopted Rule 1109, Emissions of Oxides of Nitrogen from Process Heaters and Boilers in Petroleum Refineries. On March 26, 1990, California Air Resources Board (CARB) submitted Rule 1109 to EPA Region IX. On February 28, 1997 at 62 FR 9138, EPA proposed limited approval and limited disapproval of Rule 1109. On December 7, 1999, CARB sent EPA a request to withdraw the March 26, 1990 submittal because all the affected sources are now regulated instead by SCAQMD Regulation XX (Reclaim). EPA believes this is a reasonable request. Unfortunately, before receiving this request, EPA signed an action finalizing the limited approval and limited disapproval, which was published on January 13, 2000 at 65 FR 2052.

Therefore, the purpose of today's Direct Final action is to correct this error pursuant to section 110(k)(6) of the Clean Air Act. Today's correction has no bearing on the other three rules that were finalized in our January 13, 2000 action. We believe these rules are consistent with the relevant policy and guidance regarding enforceability, RACT, and SIP relaxations.

Under Executive Order 12866 (58 FR 51735, October 4, 1993), this action is not a “significant regulatory action” and, is therefore not subject to review by the Office of Management and Budget. In addition, this action does not impose any enforceable duty or contain any unfunded mandate as described in the Unfunded Mandates Reform Act of 1995 (Public Law 104-4), or require prior consultation with State officials as specified by Executive Order 12875 (58 FR 58093, October 28, 1993), or involve special consideration of environmental justice related issues as required by Executive Order 12898 (59 FR 7629, February 16, 1994).

Under 5 U.S.C. 801(a)(1)(A) as added by the Small Business Regulatory Enforcement Fairness Act of 1996, EPA submitted a report containing this rule and other required information to the U.S. Senate, the U.S. House of Representatives and the Comptroller General of the General Accounting Office prior to publication of this rule in today's Federal Register. This rule is not a “major rule” as defined by 5 U.S.C. 804(2).

List of Subjects in 40 CFR Part 52

Environmental protection, Air pollution control, Hydrocarbons, Incorporation by reference, Intergovernmental relations, Nitrogen dioxide, Ozone, Reporting and recordkeeping requirements, Volatile organic compounds.

Dated: May 9, 2000.
Keith Takata,
Acting Regional Administrator, Region IX.

Subpart F of part 52, Chapter I, Title 40 of the Code of Federal Regulations is amended as follows:

PART 52—[AMENDED]

Subpart F—California

1. The authority citation for part 52 continues to read as follows:

Authority: 42 U.S.C. 7401 et seq.

§ 52.220 [Amended]

2. Section 52.220 is amended by removing paragraph (c)(179)(H).

[FR Doc. 00-12785 Filed 5-22-00; 8:45 am]

BILLING CODE 6560-50-P